DEPARTMENT OF COMMERCE

National Oceanic and Atmospheric Administration

50 CFR Part 679

[Docket No. 970703166-8209-04; I.D. 060997A]

RIN 0648-AH65

Fisheries of the Exclusive Zone Economic Zone Off Alaska; License Limitation Program; Correction

AGENCY: National Marine Fisheries Service (NMFS), National Oceanic and Atmospheric Administration (NOAA), Commerce.

ACTION: Correcting amendments.

SUMMARY: NMFS is correcting a final rule implementing the License Limitation Program (LLP) established for the groundfish fisheries in the Bering Sea and Aleutian Islands area (BSAI), the groundfish fisheries in the Gulf of Alaska (GOA), and the crab fisheries in the BSAI, which was published in the Federal Register of Thursday, October 1, 1998.

DATES: Effective January 1, 1999.

FOR FURTHER INFORMATION CONTACT: Jay Ginter, 907-586-7228.

SUPPLEMENTARY INFORMATION:

Background

The LLP is a limited access system authorized under section 303(d) of the Magnuson-Stevens Fishery Conservation and Management Act. The LLP is designed to limit the number, size and operation of vessels that may be used in the affected groundfish and crab fisheries. The North Pacific Fishery Management Council (Council) adopted the LLP in June 1995. The Council officially submitted the LLP to NMFS in June 1997. A proposed rule to implement the LLP was published on August 15, 1997 (62 FR 43865). The LLP was approved by NMFS on September 12, 1997. A final rule to implement the LLP was published on October 1, 1998 (63 FR 52642). Additional rules to implement an application process and a transfer process for LLP licenses were proposed on April 19, 1999 (64 FR 19113) and published as final on August 6, 1999 (64 FR 42826).

One of the licensing requirements adopted by the Council for vessels greater than or equal to 125 feet (38.1 m) length overall (LOA) to participate in the groundfish fisheries in the Western GOA was to have made at least one landing in the Western GOA in any 2 of the 4 calendar years 1992, 1993, 1994, or 1995, through June 17, 1995. The LLP proposed rule discussed this requirement in the preamble (at 62 FR 43869) and in the proposed rule text at § 679.4(i)(4)(ii)(E). Vessels that are equal to or greater than 125 feet (38.1 m) LOA were defined as “category ‘A’ ” vessels. The proposed rule text described this particular licensing requirement as follows:

“A vessel assigned to vessel category ‘A’ must have made at least one legal landing of any amount of license limitation groundfish harvested in each of any 2 calendar years from January 1, 1992, through June 17, 1995, in the Western Area of the Gulf of Alaska or in State waters shoreward of that area for a Western Gulf area endorsement.”

NMFS' approval of the Council's LLP recommendation included approval of this particular licensing requirement as an integral part of the overall LLP. The final rule implementing the LLP also discussed this licensing requirement in the preamble (at 63 FR 52645) as a documented harvest “ * * * in each of any 2 calendar years from January 1992 through June 17, 1995 * * *.” However, the final rule text (63 FR 52655, § 679.4(i)(4)(ii)(C)) erroneously omitted the phrase, “in each of any 2 calendar years,” and wrongly indicates that only one documented harvest of groundfish needs to be made by category “A” vessels during the period January 1992, through June 17, 1995, to satisfy the license endorsement criteria for the Western GOA area.

Paragraph (i) was redesignated as paragraph (k) on October 13, 1998 (63 FR 54753).

Need for Correction

As published, the final regulations contain errors, which may prove to be misleading and need to be clarified.

List of Subjects in 50 CFR Part 679

Alaska, Fisheries, Reporting and Recordkeeping requirements.

Accordingly, 50 CFR part 679 is corrected by making the following correcting amendments:

PART 679-FISHERIES OF THE EXCLUSIVE ECONOMIC ZONE OFF ALASKA

1. The authority citation for part 679 continues to read as follows:

Authority: 16 U.S.C. 773 et seq., 1801 et seq., and 3631 et seq.

2. In § 679.4(k)(4)(ii)(C)(1) is revised to read as follows:

§ 679.4 Permits.

* * * * *

(k) * * *

(4) * * *

(ii) * * *

(C) Western Gulf Area Endorsement. (1) Vessel length category “A.” For a license to be assigned a Western Gulf area endorsement based on the participation from a vessel in vessel length category “A,” at least one documented harvest of any amount of license limitation groundfish must have been made from that vessel in each of any 2 calendar years from January 1, 1992, through June 17, 1995, in the Western Area of the Gulf of Alaska or in State waters shoreward of that area.

* * * * *

Dated: May 8, 2000.
Penelope D. Dalton,
Assistant Administrator for Fisheries, National Marine Fisheries Service.

[FR Doc. 00-12028 Filed 5-11-00; 8:45 am]

BILLING CODE 3510-22-F